DEPARTMENT OF ENERGY

Energy Information Administration

Agency Information Collection Activities: Proposed Collection; Comment Request

AGENCY: Energy Information Administration (EIA), Department of Energy (DOE).

ACTION: Agency information collection activities: proposed collection; comment request.

SUMMARY: The EIA is soliciting comments on the proposed reinstatement, and three-year approval to the Form RW-859, “Nuclear Fuel Data Survey.” The previous version of the Form RW-859 survey was discontinued on February 28, 2005.

DATES: Comments must be filed by August 14, 2006. If you anticipate difficulty in submitting comments within that period, contact the person listed below as soon as possible.

ADDRESSES: Send comments to Jim Finucane. To ensure receipt of the comments by the due date, submission by fax (202-287-1934) or e-mail jim.finucane@eia.doe.gov is recommended. The mailing address is Office of Coal, Nuclear, Electric and Alternate Fuels, EI-52, 950 L'Enfant Plaza, SW., U.S. Department of Energy, Washington, DC 20585-0650. Alternatively, Jim Finucane may be contacted by telephone at 202-287-1966.

FOR FURTHER INFORMATION CONTACT: Requests for additional information or copies of any forms and instructions should be directed to Jim Finucane at the address listed above.

SUPPLEMENTARY INFORMATION:

I. Background

II. Current Actions

III. Request for Comments

I. Background

The Federal Energy Administration Act of 1974 (Pub. L. No. 93-275, 15 U.S.C. 761 et seq.) and the DOE Organization Act (Pub. L. No. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under Section 3507(a) of the Paperwork Reduction Act of 1995.

This data collection will provide the Office of Civilian Radioactive Waste Management (OCRWM) of DOE with detailed information concerning the spent nuclear fuel generated by the respondents (commercial utility generators of spent nuclear fuel within the U.S. are respondents to this survey). The DOE will take possession of this spent fuel and will need this data to properly design the spent fuel repository (spent fuel receiving systems, spent fuel handling systems, etc.), which will be the final disposal site for the spent fuel and high-level radioactive waste materials.

II. Current Actions

EIA will be requesting a reinstatement with revisions and a three-year approval of its form RW-859, “Nuclear Fuel Data Survey.” As in previous surveys, all data will be collected once. Only changes in the specific previously reported data elements will require updating.

The current Form RW-859 redesign effort and associated changes has several fundamental goals and objectives:

—Maintain the fidelity of collection of the information required by OCRWM, by continuing to collect quality data on reactors, historical spent fuel discharges, projections of spent fuel discharges, pool capacities and inventories, and special fuel and non-fuel forms relevant to OCRWM needs;

—Simplify the process of data collection and validation, by enhancing the ability of respondents to provide data through electronic data transfer in any available format (spreadsheet, database, etc.);

—Minimize the impacts of changes to the supporting database and associated software by maintaining the look and feel of previous systems and by providing incremental improvements without the need for outside programming support; and

—Enhance internal reports to improve the quality of submitted data by enhancing existing procedures through the use of internal reporting tools to standardize and automate data quality and consistency checks.

The major changes to the Form RW-859 survey include the following:

The EIA is proposing to modify the structure of the Form RW-859 survey form to organize the data into separate utility, reactor, discharged fuel, storage facility, non-fuel, and comments schedules. The seven sections from the 2002 version of the survey would be replaced with the six schedules. The redesign increases the visibility of storage facilities as individual entities.

The collection of all discharged fuel data in a single survey section thus consolidates all basic fuel data (enrichment, weight, burnup, discharge date) for all fuel, including special forms to ensure consistent, non-repetitive data. This would involve the inclusion of data on special fuel forms (consolidated fuel, fuel in canisters, fuel rods, fuel pieces) as a supplement to the basic fuel data survey section, rather than being collected in separate sections as in previous surveys.

The revised form eliminates the collection of duplicative information. Previous surveys collected contact information separately for each reactor; the new survey methodology collects and stores information once for an individual that may report for multiple reactors or storage facilities. The survey instructions have been clarified and modified in response to comments made by respondents on previous surveys.

The Appendices to the survey form have been updated. Included as an Appendix are updated tables incorporating new fuel types and a revised simplified methodology for classifying fuel types. Fuel type codes from previous surveys have not changed, so there is no need for a revision to previously submitted data.

The DOE last collected the Form RW-859 survey containing data as of December 31, 2002. Current respondents will be provided with this 2002 survey data to update. A three-year clearance is being requested for this survey since no definitive plans have been made on when the next Form RW-859 survey will be collected. Respondents will be notified prior to the next data collection.

III. Request for Comments

Prospective respondents and other interested parties should comment on the actions discussed in item II. The following guidelines are provided to assist in the preparation of comments.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. Can the information be submitted by the due date?

D. Public reporting burden for this collection is estimated to average 40 hours per response. The estimated burden includes the total time necessary to provide the requested information. In your opinion, how accurate is this estimate?

E. The agency estimates that the only cost to a respondent is for the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information To Be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the form. They also will become a matter of public record.

Statutory Authority: Section 3507(h)(1) of the Paperwork Reduction Act of 1995 (Pub. L. 104-13, 44 U.S.C. chapter 35).

Issued in Washington, DC, June 7, 2006.
Jay H. Casselberry,
Agency Clearance Officer, Energy Information Administration.

[FR Doc. E6-9264 Filed 6-13-06; 8:45 am]

BILLING CODE 6450-01-P